DEPARTMENT OF ENERGY

Federal Energy Regulatory Commission

[Docket No. RP06-417-000]

Dominion Cove Point LNG; Notice of Informal Settlement Conference

December 22, 2006.

Take notice that an informal settlement conference will be convened in this proceeding commencing at 9:30 a.m. (EST) on Thursday, January 11, 2007 and, if appropriate, continuing on Friday, January 12, 2007 at the Federal Energy Regulatory Commission, 888 First Street, NE., Washington, DC 20426, for the purpose of exploring the possible settlement of the above-referenced docket

Any party, as defined by 18 CFR 385.102(c), or any participant as defined by 18 CFR 385.102(b), is invited to attend. Persons wishing to become a party must move to intervene and receive intervenor status pursuant to the Commission's regulations (18 CFR 385.214).

FERC conferences are accessible under section 508 of the Rehabilitation Act of 1973. For accessibility accommodations please send an email to accessibility@ferc.gov or call toll free 1-866-208-3372 (voice) or 202-208-1656 (TTY); or send a FAX to 202-208-2106 with the required accommodations.

For additional information, please contact Gopal Swaminathan (202 502-6132).

Magalie R. Salas,
Secretary.

[FR Doc. E6-22376 Filed 12-28-06; 8:45 am]

BILLING CODE 6717-01-P